DEPARTMENT OF TRANSPORTATION

Research and Innovative Technology Administration

[Docket Number: RITA-2006-24715]

Notice of Request for Approval To Collect New Information: Collection of Data for Program Evaluation

AGENCY: Bureau of Transportation Statistics (BTS), Research and Innovative Technology Administration (RITA), DOT.

ACTION: Notice and request for comments.

SUMMARY: This notice announces that the Bureau of Transportation Statistics (BTS) intends to request the Office of Management and Budget (OMB) to approve a data collection effort to evaluate a five-year research program on using information from close calls and near misses to improve safety in the rail industry. The study is conducted by the Office of Human Factors in the Federal Railroad Administration (FRA) and is designed to identify safety issues and propose corrective actions based on voluntary reports of close calls submitted to BTS. Because of the innovative nature of this program, the FRA is implementing an evaluation to determine whether the program is succeeding, how it can be improved, and what is needed to implement the program through out the railroad industry. This collection is necessary to obtain the data needed to carry out the evaluation. This notice is required by the Paperwork Reduction Act.

DATES: Comments must be received by July 10, 2006.

ADDRESSES: You can mail or hand-deliver comments to the U.S. Department of Transportation (DOT), Dockets Management System (DMS). You may submit your comments by mail or in person to the Docket Clerk, Docket No. RITA-2006-24715, U.S. Department of Transportation, 400 Seventh Street, SW., Room PL-401, Washington, DC 20590-0001. Comments should identify the docket number; paper comments should be submitted in duplicate. The DMS is open for examination and copying, at the above address, from 9 a.m. to 5 p.m., Monday through Friday, except federal holidays. If you wish to receive confirmation of receipt of your written comments, please include a self-addressed, stamped postcard with the following statement: “Comments on Docket RITA-2006-24715.” The Docket Clerk will date stamp the postcard prior to returning it to you via the U.S. mail. Please note that due to delays in the delivery of U.S. mail to Federal offices in Washington, DC, we recommend that persons consider an alternative method (the Internet, fax, or professional delivery service) to submit comments to the docket and ensure their timely receipt at U.S. DOT. You may fax your comments to the DMS at (202) 493-2251.

If you wish to file comments using the Internet, you may use the DOT DMS Web site at http://dms.dot.gov. Please follow the online instructions for submitting an electronic comment. You can also review comments on-line at the DMS Web site at http://dms.dot.gov.

Please Note that anyone is able to electronically search all comments received into our docket management system by the name of the individual submitting the comment (or signing the comment if submitted on behalf of an association, business, labor union, etc.). You may review DOT's complete Privacy Act Statement in the Federal Register published on April 11, 2000 (Volume 65, Number 70; pages 19477-78) or you may review the Privacy Act Statement at http://dms.dot.gov.

FOR FURTHER INFORMATION CONTACT: Demetra V. Collia, RTS 31, Room 3430, Bureau of Transportation Statistics, 400 Seventh Street, SW., Washington, DC 20590; (202) 366-1610; FAX NO. (202) 493-0568; e-mail: demetra.collia@dot.gov.

Data Confidentiality Provisions: The confidentiality of data collected by BTS is protected under the BTS confidentiality statute (49 U.S.C. 111 (k) and the Confidential Information Protection and Statistical Efficiency Act (CIPSEA) of 2002 (Pub. L. 107-347, Title V). In accordance with these confidentiality statutes, only statistical and non-identifying data will be made publicly available through reports. Further, BTS will not release to FRA or any other public or private entity any information that might reveal the identity of individuals or organizations mentioned in the collected survey data.

SUPPLEMENTARY INFORMATION:

I. The Data Collection

The Paperwork Reduction Act of 1995 (44 U.S.C. Chapter 35; as amended) and 5 CFR part 1320 require each Federal agency to obtain OMB approval to initiate an information collection activity. BTS is seeking OMB approval for the following BTS information collection activity:

Title: Collection of Data for Program Evaluation.

OMB Control Number: 2139-NEW.

Type of Review: Approval of data collection.

Respondents: Employees of selected (pilot) railroad sites.

Number of Respondents: 1,200 (per annum).

Estimated Time per Response: 0.50 hours.

Frequency: The evaluation survey will be conducted three times: (1) At the onset of the Close Calls research program (baseline); (2) two to three years later; and (3) at the end of the Close Calls research program (five to six years from the baseline data collection.).

Total Annual Burden: 600 hours.

II. Background

Collecting data on the nation's transportation system is an important component of BTS' responsibility to the transportation community and is authorized in BTS statutory authority (49 U.S.C. 111(c)(1) and (2) and 49 U.S.C. 111(c)(5) (j)). Further, BTS and FRA share a common interest in promoting rail safety based on better data. In recognition of the need for new approaches to improving safety, the FRA has initiated a research program called the Confidential Close Call Reporting System (C³RS). The C³RS is designed to identify safety issues and propose corrective actions based on voluntary reports of close calls submitted to BTS. A close call represents a situation in which an ongoing sequence of events was stopped from developing further, preventing the occurrence of potentially serious safety-related consequences. This might include the following: (1) Events that happen frequently, but have low safety consequences; (2) events that happen infrequently but have the potential for high consequences (e.g., a train in dark territory proceeds beyond its authority); (3) events that are below the FRA reporting threshold (e.g., an event that causes a minor injury); and (4) events that are reportable to FRA but have the potential for a far greater accident than the one reported (e.g., a slow speed collision with minor damage to the equipment and no injuries.)

BTS will collect close call reports submitted by railroad employees, develop an analytical database containing the reported data and other pertinent information, and protect the confidentiality of these data through its own statute (49 U.S.C. 111(i)) and the Confidential Information Protection and Statistical Efficiency Act of 2002 (CIPSEA). The operating assumption behind C³RS is that by assuring confidentiality, employees will report events which, if dealt with, will decrease the likelihood of accidents. C³RS therefore has both a confidential reporting component, and a problem analysis/solution component. C³RS is expected to affect safety in two ways. First, it will lead to problem solving concerning specific safety conditions. Second, it will engender an organizational culture and climate that supports greater awareness of safety and a greater cooperative willingness to improve safety. BTS is seeking a separate OMB approval for the collection of close call reports (71 FR 24913, April 27, 2006) which does not involve the evaluation of the reporting system.

While C³RS has been developed and is being implemented with the participation of the FRA, railroad labor, and railroad management, there are legitimate questions about whether it is being implemented in the most effective way, and whether it will have its intended effect. Further, even if C³RS is successful, it will be necessary to know if it is successful enough to implement on a wide scale. To address these important questions, the FRA is implementing a formative evaluation to guide program development, a summative evaluation to assess impact, and a sustainability evaluation to determine how C³RS can continue after the test period is over. The evaluation is needed to provide the FRA with guidance as to how it can improve the program, and how it might be scaled up throughout the railroad industry.

Program evaluation is an inherently data driven activity. Its basic tenet is that as change is implemented, data can be collected to track the course and consequences of the change. Because of the setting in which C³RS is being implemented, that data must come from the railroad employees (labor and management) who may be affected. Employees of selected railroad sites (pilot sites) will be asked to fill out a questionnaire which will be made available to them at town hall meetings and mail back to BTS. The evaluation program questionnaire will request the respondent to provide information such as: (a) Beliefs about rail safety; (b) issues and personal concerns related to implementation of safety programs in their work environment; (c) knowledge and views on voluntary reporting of unsafe events; and (d) opinions and observations about the operation of C³RS at their work site.

III. Request for Comments

BTS requests comments on any aspects of these information collections, including: (1) The accuracy of the estimated burden; (2) ways to enhance the quality, usefulness, and clarity of the collected information; and (3) ways to minimize the collection burden without reducing the quality of the information collected, including additional use of automated collection techniques or other forms of information technology.

Issued in Washington, DC, on May 3, 2006.
William Bannister,
Acting Deputy Director, Bureau of Transportation Statistics, Research and Innovative Technology Administration.

[FR Doc. E6-7109 Filed 5-9-06; 8:45 am]

BILLING CODE 4910-HY-P